DEPARTMENT OF COMMERCE

National Oceanic and Atmospheric Administration

50 CFR Part 622

[I.D. 040600B]

South Atlantic Fishery Management Council; Public Hearings

AGENCY: National Marine Fisheries Service (NMFS), National Oceanic and Atmospheric Administration, Commerce.

ACTION: Public hearings; request for comments.

SUMMARY: The South Atlantic Fishery Management Council (Council), in cooperation with the Caribbean Fishery Management Council, will convene 17 public hearings regarding the draft Fishery Management Plan for the Dolphin and Wahoo Fishery of the Atlantic, Caribbean and Gulf of Mexico (draft FMP). The overall goal of the FMP is to provide a comprehensive management structure for dolphin and wahoo in the Atlantic, Gulf, and Caribbean exclusive economic zone (EEZ). The FMP will take a precautionary approach in conserving these fishery resources, achieving optimum yield (OY), and maintaining current allocations among user groups.

DATES: The Council will accept written comments on the draft FMP through July 7, 2000. The public hearings will be held in May and June of 2000. See SUPPLEMENTARY INFORMATION for specific dates and times of the public hearings.

ADDRESSES: Written comments should be sent to Bob Mahood, Executive Director, South Atlantic Fishery Management Council, One Southpark Circle, Suite 306, Charleston, SC 29407-4699. Copies of the draft FMP are available from Kim Iverson, South Atlantic Fishery Management Council, One Southpark Circle, Suite 306, Charleston, SC 29407-4699; telephone: 843-571-4366. See SUPPLEMENTARY INFORMATION for specific locations.

FOR FURTHER INFORMATION CONTACT: Kim Iverson, South Atlantic Fishery Management Council, One Southpark Circle, Suite 306, Charleston, SC 29407-4699; telephone: 843-571-4366; fax: 843-769-4520; email address: kim.iverson@noaa.gov.

SUPPLEMENTARY INFORMATION:

Management Measures

The draft FMP provides for the following: Establishment of management units for dolphin and wahoo; proposed dealer, vessel and operator permit requirements; reporting requirements; establishment of a maximum sustainable yield (MSY) and OY; definition of overfishing for dolphin and wahoo; and the establishment of a framework procedure for regulatory adjustments without requiring FMP amendments.

The following proposed management measures are under consideration for dolphin and wahoo in the Atlantic EEZ: (1) Prohibition of the sale of recreationally caught fish in the Atlantic EEZ; (2) a limit on the percent of dolphin harvested in the Atlantic EEZ by the recreational fishery and the commercial fishery, at 87 percent and 13 percent, respectively. (Note: Should either sector's catch exceed these percentages, the Council will review the data and evaluate the need for additional regulations which may be established through the FMP's framework procedures); (3) a recreational bag limit of 5 to 10 dolphins per person per day, excluding the captain and crew of for-hire boats in the Atlantic EEZ; (4) a commercial dolphin trip limit of 1,000 to 5,000 lb or an equivalent number of fish, with no transfer at sea allowed in the Atlantic EEZ; (5) no minimum size limit for dolphin in the Atlantic EEZ; (6) a commercial trip limit for wahoo of 500 lb or an equivalent number of fish, with no transfer at sea allowed in the Atlantic EEZ; (7) no minimum size limit for wahoo in the Atlantic EEZ; (8) a recreational bag limit of two wahoo per person per day for the recreational fishery, excluding the captain and crew of for-hire boats in the Atlantic EEZ; (9) specification of allowable gear for dolphin and wahoo in the Atlantic EEZ as surface longline and as hook-and-line gear including manual, electric, or hydraulic rod and reels, bandit gear, and spearfishing gear; (10) prohibition of the use of pelagic longline gear for dolphin and wahoo concurrent with time/area closures to the use of such gear for highly migratory pelagic species in the Atlantic EEZ; (11) establish a fishing year of January 1 to December 31 for the dolphin and wahoo fishery; (12) identification of essential fish habitat (EFH) for dolphin and wahoo in the Atlantic; and (13) identification of EFH—Habitat Areas of Particular Concern (HAPC) for dolphin and wahoo in the Atlantic.

Time and Location for Public Hearings

Public hearings for the draft FMP will be held at the following dates, times, and locations.

1. May 1, 2000, 7 p.m., Town & Country Inn, 2008 Savannah Highway, Charleston, SC 29407; telephone: 843-571-1000.

2. May 2, 2000, 7 p.m., Sea Turtle Inn, One Ocean Boulevard, Atlantic Beach, FL 32233; telephone: 904-249-7402

3. May 3, 2000, 7 p.m., Holiday Inn, 1300 N. Atlantic Ave., Cocoa Beach, FL 32931; telephone: 407-783-2271.

4. May 4, 2000, 7 p.m., Holiday Inn, 999 N. Atlantic Boulevard, Ft. Lauderdale Beach, FL 32931; telephone: 954-563-5961.

5. May 9, 2000, 7 p.m., Holiday Inn Kill Devil Hills, 1601 Virginia Dare Trail, Kill Devil Hills, NC 27948; telephone: 252-441-6333.

6. May 10, 2000, 7 p.m., Crystal Coast Civic Center, 3505 Arendell Street, Morehead City, NC 28557; telephone: 252-247-3883.

7. May 11, 2000, 7 p.m., Blockade Runner, 275 Waynick Boulevard, Wrightsville Beach, NC 28480; telephone: 910-256-2251.

8. May 15, 2000, 7 p.m., Hyatt Regency Savannah, 2 West Bay Street, Savannah, GA 31401; telephone: 912-238-1234.

9. May 17, 2000, 7 p.m., Embassy Suites Hotel and Casino, 8000 Tartak St., Isla Verde, Carolina, Puerto Rico; telephone: 787-791-0505.

10. May 18, 2000, 7 p.m., Holiday Inn St. Thomas, Veterans Drive, St. Thomas USVI; telephone: 800-524-7389.

11. May 19, 2000, 7 p.m., Caravelle Hotel, 448 Queen Cross St., St. Croix, USVI; telephone: 800-595-9505 or 340-773-0687.

12. June 8, 2000, 7 p.m., Hyatt Key West, 601 Front Street, Key West, FL 33040; telephone: 305-296-9900.

13. June 12, 2000, 7 p.m., Cheeca Lodge, Mile Marker 82, US Highway One, Islamorada, FL 33036; telephone: 305-664-4651.

14. June 26, 2000, 7 p.m., Princess Bayside, 4801 Coastal Highway, Ocean City, MD 21842; telephone: 410-723-2900.

15. June 27, 2000, 7 p.m., Holiday Inn, 290 Route 37 East, Toms River, NJ 08753; telephone: 732-244-4000.

16. June 28, 2000, 7 p.m., Holiday Inn, 3845 Veterans Memorial Highway, Ronkonkoma, NY 11779; telephone: 516-585-9500.

17. June 29, 2000, 7 p.m., The Radisson Hotel, 35 Governor Winthrop Boulevard, New London, CT 06320; telephone: 860-443-7000.

Copies of the draft FMP can be obtained from the Council (see ADDRESSES).

Special Accommodations

These meetings are physically accessible to people with disabilities. Requests for sign language interpretation or other auxiliary aids should be directed to the Council office (see ADDRESSES) by April 26, 2000.

Dated: April 11, 2000.
Bruce Morehead,
Acting Director, Office of Sustainable Fisheries, National Marine Fisheries Service.

[FR Doc. 00-9564 Filed 4-14-00; 8:45 am]

BILLING CODE 3510-22-F